DEPARTMENT OF LABOR

Office of the Secretary

Draft Guidelines for Ensuring and Maximizing the Quality, Objectively, Utility, and Integrity of Information Disseminated by the Department of Labor; Request for Comment

AGENCY: Office of the Secretary, Labor

ACTION: Notice.

SUMMARY: The Department of Labor (DOL) draft Guidelines for Ensuring and Maximizing the Quality, Objectivity, Utility, and Integrity of Information Disseminated by Department of Labor are available for public comment on the DOL web site: http://www2.dol.gov/dol/cio/public/programs/infoguidelines/guidelines.htm.

DATES: Comments must be received on or before May 31, 2002.

ADDRESSES: Comments on the draft guidelines must be submitted in writing by postal mail, fax, or e-mail to Mrs. Theresa M. O'Malley, Executive Office, Information Technology Center, Department of Labor, Room N-1301, 2000 Constitution Avenue, NW., Washington, DC 20210; fax number (202) 693-4228, or e-mail mailto:Omalley-Theresa@dol.gov.

FOR FURTHER INFORMATION CONTACT: Mrs. Theresa M. O'Malley, Executive Office, Information Technology Center, telephone (202) 693-4216 (this is not a toll-free number), fax number (202)693-4228, or e-mailmailto:Omalley-Theresa@dol.gov.

SUPPLEMENTARY INFORMATION: On February 22, 2002, the Office of Management and Budget (OMB) published a Federal Register Notice (67 FR 8452-8460) Guidelines for Ensuring and Maximizing the Quality, Objectively, Utility, and Integrity of Information Disseminated by Federal Agencies, Republication. The guidelines state that each agency must prepared a draft report, no later than May 1, 2002, (as amended, Federal Register Notice (67 FR 9797) March 4, 2002) providing the agency's information quality guidelines and explaining how such guidelines will ensure and maximize the quality, objectivity, utility, and integrity of information including statistical information disseminated by the agency. This report must also detail the administrative mechanisms developed by that agency to allow affected persons to seek and obtain appropriate correction of information maintained and disseminated by the agency that does not comply with the OMB or the agency guidelines. Each agency must published a notice of availability of this draft report in the Federal Register, and post this report on the agency's website, to provide an opportunity for public comment.

The DOL has posted the draft Guidelines for Ensuring and Maximizing the Quality, Objectively, Utility, and Integrity of Information Disseminated by Department of Labor in the DOL website as referenced above in the Summary section of this notice.

Signed at Washington, DC, this 23rd day of April, 2002.
Patrick Pizzella,
Assistant Secretary for Administration and Management, Chief Information Officer.

[FR Doc. 02-10493 Filed 4-30-02; 8:45 am]

BILLING CODE 4510-23-M